DEPARTMENT OF THE INTERIOR

National Park Service

[NPS-WASO-NAGPRA-NPS0036806; PPWOCRADN0-PCU00RP14.R50000]

Notice of Inventory Completion: Washington State University, Museum of Anthropology, Pullman, WA

AGENCY: National Park Service, Interior.

ACTION: Notice.

SUMMARY: In accordance with the Native American Graves Protection and Repatriation Act (NAGPRA), the Museum of Anthropology at Washington State University (WSU Museum of Anthropology) has completed an inventory of human remains and associated funerary objects and has determined that there is a cultural affiliation between the human remains and associated funerary objects and Indian Tribes or Native Hawaiian organizations in this notice. The human remains and associated funerary objects were removed from Asotin County, WA.

DATES: Repatriation of the human remains and associated funerary objects in this notice may occur on or after November 24, 2023.

ADDRESSES: Andrew Duff, Acting Director, Museum of Anthropology at Washington State University, Pullman, WA 99164-4910, telephone (509) 335-3871, email duff@wsu.edu.

SUPPLEMENTARY INFORMATION: This notice is published as part of the National Park Service's administrative responsibilities under NAGPRA. The determinations in this notice are the sole responsibility of the Museum of Anthropology at Washington State University. The National Park Service is not responsible for the determinations in this notice. Additional information on the determinations in this notice, including the results of consultation, can be found in the inventory or related records held by the Museum of Anthropology at Washington State University.

Description

In 1964, human remains representing, at minimum, three individuals were removed from Ten Mile Creek (45AS26), in Asotin County, WA. The site, which had cairn markers visible on its surface, had been heavily disturbed by looters. The occurrence of stone cairns, the flexed body position, and the types of associated funerary objects suggest that these burials date to the Late Prehistoric Period of about 2000-300 years ago.

The burial site is part of the Ten Mile Creek site complex, which includes large and small open camp sites, a series of storage pits, a rock shelter, and a fish wall. Ethnographic, oral traditions, and historic evidence associates this location with `enetoyn, a Nez Perce village. Excavations were led by WSU archeologists Charles Nelson and David Rice during the 1964 Asotin Reservoir Dam Survey under contract with the US Army Corps of Engineers, who hired WSU to conduct the survey after Congress authorized construction of the Asotin Dam Reservoir (Nelson and Rice 1969). While dam construction was later de-authorized and further work was discontinued, the WSU Museum of Anthropology has housed Asotin Dam Reservoir Survey collections, including those from 45AS26.

Three separate burials, numbered 1, 2, and 3, marked with surface and subsurface stone cairns, were excavated. Each burial contained a single individual placed in a flexed position. Burial 1 contained the human remains of an individual about 15 years old whose sex could not be determined. Red ochre as well as dentalia shell beads, a mussel shell pendant fragment, and a piece of muscovite mica, were found near the individual's head. A heavily fragmented cedar wood stake was also associated with Burial 1. Burial 2 contained the human remains of a child aged 6-8 years old whose sex could not be determined. The grave was marked by surface and sub-surface stone cairns. The body was in a fully flexed position and there were no associated funerary items. Burial 3 contained the human remains of a child 6-8 years old whose sex could not be determined. The grave was marked by a surface cairn containing flecks of charcoal and dentalia shell beads, including one incised bead. The body was placed in a flexed position. No known individuals were identified. The eight associated funerary objects include three lots consisting of dentalia shell beads, one incised dentalia shell bead, one mussel shell pendant fragment, one lot consisting of muscovite mica fragments, one lot consisting of cedar stake fragments, and one lot consisting of charcoal fragments.

Cultural Affiliation

The human remains and associated funerary objects in this notice are connected to one or more identifiable earlier groups, tribes, peoples, or cultures. There is a relationship of shared group identity between the identifiable earlier groups, tribes, peoples, or cultures and one or more Indian Tribes, which includes the Nez Perce Tribe and the Nez Perce Band of the Confederated Tribes of the Colville Reservation. The following types of information were used to reasonably trace the relationship: anthropological, archeological, geographical, historical, and oral traditional.

Determinations

Pursuant to NAGPRA and its implementing regulations, and after consultation with the appropriate Indian Tribes and Native Hawaiian organizations, the Museum of Anthropology at Washington State University has determined that:

• The human remains described in this notice represent the physical remains of three individuals of Native American ancestry.

• The eight objects described in this notice are reasonably believed to have been placed with or near individual human remains at the time of death or later as part of the death rite or ceremony.

• There is a relationship of shared group identity that can be reasonably traced between the human remains and associated funerary objects described in this notice and the Confederated Tribes of the Colville Reservation and the Nez Perce Tribe.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after November 24, 2023. If competing requests for repatriation are received, the Museum of Anthropology at Washington State University must determine the most appropriate requestor prior to repatriation. Requests for joint repatriation of the human remains and associated funerary objects are considered a single request and not competing requests. The Museum of Anthropology at Washington State University is responsible for sending a copy of this notice to the Indian Tribes identified in this notice.

Authority: Native American Graves Protection and Repatriation Act, 25 U.S.C. 3003, and the implementing regulations, 43 CFR 10.9, § 10.10, and § 10.14.

Dated: October 18, 2023.
Melanie O'Brien,
Manager, National NAGPRA Program.

[FR Doc. 2023-23549 Filed 10-24-23; 8:45 am]

BILLING CODE 4312-52-P